AMERICAN BATTLE MONUMENTS COMMISSION

36 CFR Part 400

Employee Responsibilities and Conduct; Removal of Superseded Regulations and Addition of Residual Cross-References

AGENCY: American Battle Monuments Commission (ABMC).

ACTION: Direct final rule.

SUMMARY: The American Battle Monuments Commission is repealing its superseded old agency employee responsibilities and conduct regulations, which have been replaced by the executive branch-wide Standards of Ethical Conduct and financial disclosure regulations issued by the Office of Government Ethics (OGE). In their place, the ABMC is adding a section of residual cross-references to those new provisions as well as to certain executive branch-wide conduct rules promulgated by the Office of Personnel Management (OPM).

DATES: This rule is effective May 6, 2004 without further action, unless adverse comment is received by May 5, 2004. If adverse comment is received, ABMC will publish a timely withdrawal of the rule in the Federal Register.

ADDRESSES: You may submit comments by any of the following methods: Federal Rulemaking Portal: http://www.regulations.gov. Follow the instructions for submitting comments.

Agency Web site: www.abmc.gov. Follow the instructions for submitting comments on the ABMC Web site. E-mail: gloukhofft@abmc.gov.

FOR FURTHER INFORMATION CONTACT: Mr. Theodore Gloukhoff, Designated Agency Ethics Official, American Battle Monuments Commission, Suite 500, Courthouse Plaza II, 2300 Clarendon Boulevard, Arlington, VA 22201; telephone: (703) 696-6908; FAX: (703) 696-6666.

SUPPLEMENTARY INFORMATION: In 1992, OGE issued a final rule setting forth uniform Standards of Ethical Conduct and an interim final rule on financial disclosure for executive branch departments and agencies of the Federal Government and their employees. Those two executive branch-wide regulations, as corrected and amended, are codified at 5 CFR parts 2634 and 2635. Together those regulations have superseded the old ABMC regulations on employee responsibilities and conduct, which were codified at 36 CFR part 400 (and were based on prior OPM standards). Accordingly, the ABMC is removing its superseded regulations and adding in place thereof a new section containing residual cross-references to the new provisions at 5 CFR parts 2634 and 2635. In addition, the ABMC is adding to that section a reference to the specific executive branch-wide restrictions on gambling, safeguarding the examination process and conduct prejudicial to the Government which are set forth in 5 CFR part 735, as issued by OPM in 1992.

List of Subjects in 36 CFR Part 400

Conflict of interests, Government employees.

For the reasons set forth in the preamble, American Battle Monuments Commission is revising 36 CFR part 400 to read as follows:

PART 400—EMPLOYEE RESPONSIBILITIES AND CONDUCT

Authority: 5 U.S.C. 7301; 36 U.S.C. 2103.

§ 400.1 Cross-references to employees' ethical conduct standards, financial disclosure regulations and other conduct rules.

Employees of the American Battle Monuments Commission are subject to the executive branch-wide standards of ethical conduct and financial disclosure regulations at 5 CFR parts 2634 and 2635 as well as the executive branch-wide employee responsibilities and conduct regulations at 5 CFR part 735.

Dated: March 30, 2004.
Theodore Gloukhoff,
Director, Personnel and Administration.

[FR Doc. 04-7675 Filed 4-5-04; 8:45 am]

BILLING CODE 6120-01-P